DEPARTMENT OF HEALTH AND HUMAN SERVICES

Centers for Disease Control and Prevention

Board of Scientific Counselors, National Center for Injury Prevention and Control (BSC, NCIPC)

In accordance with Section 10(a)(2) of the Federal Advisory Committee Act (Pub. L. 92-463), the Centers for Disease Control and Prevention (CDC) announces the following meeting of the aforementioned board:

Times and Dates: 8:30 a.m.-5 p.m., February 24, 2011; 8:30 a.m.-12 p.m., February 25, 2011.

Place: Atlanta Marriott Century Center, 2000 Century Boulevard, Atlanta, Georgia 30345.

Status: Open to the public, limited only by the space available. The meeting room accommodates approximately 75 people.

Purpose: The Board will: (1) Conduct, encourage, cooperate with, and assist other appropriate public health authorities, scientific institutions, and scientists in the conduct of research, investigations, experiments, demonstrations, and studies relating to the causes, diagnosis, treatment, control, and prevention of physical and mental diseases, and other impairments; (2) assist States and their political subdivisions in preventing and suppressing communicable diseases and other preventable conditions and in promoting health and well-being; and (3) conduct and assist in research and control activities related to injury.

Matters to be Discussed: The BSC, NCIPC will discuss the recommendations provided by the expert panel on the Research Portfolio Reviews that have been conducted and to discuss research strategies needed to guide the Center's focus. There will be 15 minutes allotted for public comments at the end of the open session.

Agenda items are subject to change as priorities dictate.

Contact Person for More Information: Dr. Arlene Greenspan, Designated Federal Officer, NCIPC, CDC, 4770 Buford Highway, NE., Mailstop F-63, Atlanta, Georgia 30341, Telephone (770) 488-1430.

The Director, Management Analysis and Services Office, has been delegated the authority to sign Federal Register notices pertaining to announcements of meetings and other committee management activities, for both CDC and the Agency for Toxic Substances and Disease Registry.

Dated: February 3, 2011.
Elaine L. Baker,
Director, Management Analysis and Services Office, Centers for Disease Control and Prevention.

[FR Doc. 2011-2818 Filed 2-8-11; 8:45 am]

BILLING CODE 4163-18-P